GENERAL SERVICES ADMINISTRATION

[Notice-PBS-2014-01; Docket No. 2014-0002; Sequence No. 11]

Notice of Intent To Prepare an Environmental Impact Statement for the Proposed Federal Bureau of Investigation Headquarters Consolidation and Exchange of the J. Edgar Hoover Building

AGENCY: U.S. General Services Administration (GSA), Lead; Federal Bureau of Investigation (FBI), Cooperating Agency.

ACTION: Notice of Intent to prepare an Environmental Impact Statement and public meeting.

SUMMARY: Pursuant to the requirements of the National Environmental Policy Act of 1969 (NEPA), GSA plans to prepare an Environmental Impact Statement (EIS) for the proposed Federal Bureau of Investigation Headquarters (FBI HQ) Consolidation to guide the evaluation of alternatives for a new permanent location for the FBI HQ, and to look at the impacts from the exchange of the J. Edgar Hoover Building. GSA also will be initiating related consultation under Section 106 of the National Historic Preservation Act (NHPA) for the project.

DATES: Effective: September 8, 2014.

The public scoping meeting dates are:

1. Springfield Site: Monday, September 22, 2014 from 5:30 p.m. until 8:30 p.m. eastern standard time.

2. Greenbelt Site: Tuesday, September 23, 2014 from 5:30 p.m. until 8:30 p.m. eastern standard time.

3. JEH Exchange: Wednesday, October 1, 2014 from 5:00 p.m. until 8:00 p.m. eastern standard time.

4. Landover Site: Thursday, October 2, 2014 from 5:30 p.m. until 8:30 p.m. eastern standard time.

ADDRESSES: The meeting locations are:

1. Springfield Site: Robert E. Lee High School located at 6540 Franconia Rd., Springfield, VA 22150.

2. Greenbelt Site: Greenbelt Library located at 11 Crescent Rd., Greenbelt, MD 20770.

3. JEH Exchange: District Architecture Center located at 421 7th St. NW., Washington, DC 20004.

4. Landover Site: Prince George's County Sports and Learning Complex located at 8001 Sheriff Rd., Hyattsville, MD 20785.

FOR FURTHER INFORMATION CONTACT: Nia Francis, Project Manager, GSA, National Capital Region, at (202) 205-1937. Also, please call this number if special assistance is needed to attend and participate in the scoping meeting.

SUPPLEMENTARY INFORMATION: Pursuant to the requirements of the National Environmental Policy Act of 1969 (NEPA), 42 United States Code (U.S.C.) 4321-4347; the Council on Environmental Quality Regulations (Code of Federal Regulations (CFR), Title 40, chapter V, parts 1500-1508); GSA Order ADM 1095.1F (Environmental considerations in decision-making, dated October 19, 1999); and the GSA Public Buildings Service NEPA Desk Guide, dated October 1999, GSA plans to prepare an Environmental Impact Statement (EIS) for the proposed FBI HQ Consolidation to guide the evaluation of alternatives for a new permanent location for the FBI HQ. GSA also will be initiating related consultation under Section 106 of the National Historic Preservation Act (NHPA) (16 U.S.C. 470(f) and 470(h-2), 36 CFR Part 800 (Protection of Historic Properties) for the project.

GSA intends to prepare an EIS to analyze the potential impacts resulting from the proposed action, which encompasses two parts: (1) Acquisition of a consolidated FBI HQ at a new permanent location; and (2) exchange of the J. Edgar Hoover (JEH) Building parcel.

Background

The purpose of the proposed action is to: (1) Consolidate the existing FBI HQ offices and divisions into one location in the greater Washington DC area; and (2) provide the FBI with a headquarters facility that meets the Interagency Security Council (ISC) Level V security standards. This standard is reserved for agencies with mission functions critical to national security or continuation of government.

A consolidated FBI HQ is needed to support information sharing, collaboration, and integration of strategic priorities. Currently, the aging JEH Building houses only 52 percent of headquarters staff with the remainder dispersed over multiple locations in the National Capital Region. Fragmentation resulting from FBI HQ's multiple locations diverts time and resources from investigations, hampers coordination and collaboration, and decreases flexibility. Dispersion across multiple locations also gives rise to redundancy in operations and inefficient use of space. The consolidation is needed to eliminate redundancies and provide for significant space savings.

The proposed action is needed to provide a FBI HQ that meets the Level V ISC security standard. Currently, FBI HQ elements are housed in the JEH Building and multiple locations in the greater Washington, DC area that do not meet the Level V ISC security standard. Additionally, the FBI needs a facility that supports the mission of the agency and allows the agency to defend against terrorists, weapons of mass destruction, and other threats. As an integral agency for the management of intelligence and national security programs, the FBI needs a HQ facility that provides highly reliable utilities and infrastructure.

GSA is the lead agency for the FBI HQ consolidation and exchange of JEH, and associated NEPA and NHPA compliance. FBI is a cooperating agency for NEPA and a signatory consulting party for NHPA.

JEH Building Exchange

The new FBI HQ would be built by a developer, on one of the acceptable sites identified by GSA and FBI through a site selection process that concluded with an announcement of short listed sites on July 29, 2014. Following construction of the new FBI HQ and acceptance of the FBI HQ by GSA, title to JEH will be transferred to the developer to offset the cost of the new FBI HQ.

Alternatives Under Consideration

As part of the EIS, GSA will study the impacts of developing an up to 2.1 million rentable square feet consolidated FBI HQ on three site alternatives. These sites are:

• Greenbelt—this site is known as the Greenbelt Metro Station located near the intersection of Interstates 95/495 and Greenbelt Station (exit 24) in Prince George's County, Maryland.

• Landover—this site is known as the former Landover Mall located along Brightseat Road near the intersection of Interstates 95/495 (exit 17) and Landover Road (MD 202) in Prince George's County, Maryland.

• Springfield—this site is known as the GSA Franconia Warehouse Complex located along Loisdale Road just south of the Franconia-Springfield Parkway overpass and east of Interstate 95 in Fairfax County, Virginia.

Additionally, GSA will study potential impacts related to the exchange of the JEH parcel. GSA also will evaluate a “No Action Alternative”, in which FBI would remain in the current locations without consolidation at a new permanent location.

Resource areas to be addressed in the EIS will include, but not be limited to: Air quality, noise, land use, socioeconomics, traffic and transportation, infrastructure and community services, natural resources, biological resources, cultural resources, and safety and environmental hazards. The analysis will evaluate direct, indirect, and cumulative impacts. Relevant and reasonable measures that could avoid or mitigate environmental effects will also be analyzed. In conjunction with the NEPA process, GSA will undertake any consultations required by applicable laws or regulations, including NHPA.

Scoping Process

In accordance with NEPA, a scoping process will be conducted to: (1) Aid in determining the alternatives to be considered and the scope of issues to be addressed; and (2) identify the significant environmental issues related to the proposed FBI HQ consolidation that should be addressed during the preparation of the Draft EIS. Scoping will be accomplished through a series of public scoping meetings; mail and email correspondence to potentially interested persons, agencies, and organizations; social media and other web-based communications; and meetings with agencies having an interest in the FBI HQ consolidation. GSA is also using the NEPA scoping process to facilitate consultation with the public under Section 106 of the NHPA (36 CFR Part 800). GSA welcomes comments from the public to ensure that the agency takes into account the effects of the proposed action on historic and cultural resources.

GSA will publish announcement notices in the Washington Post, Washington Business Journal, Springfield Connection, Greenbelt Patch, and Hyattsville Patch approximately one to two weeks prior to the public scoping meetings. After receiving scoping comments, GSA will respond to them in the EIS and through the Section 106 consultation process. GSA will make available to the public a comment/response matrix summarizing the scoping and Section 106 comments in the Draft and Final EIS.

Written Comments: Agencies and the public are encouraged to provide written comments on the scoping issues related to the EIS for the proposed FBI HQ consolidation in addition to, or in lieu of, providing comments at the public scoping meeting. Written comments must be postmarked no later than October 23, 2014, and sent to the General Services Administration, Attention: Nia Francis, Project Manager, 301 7th Street SW., Room 4004, Washington, DC 20407. Email: fbiheadquarters@gsa.gov using the subject line: NEPA Scoping Comment.

Dated: September 3, 2014.
Mina Wright,
Director, Office of Planning and Design Quality, National Capital Region, Public Buildings Service.

[FR Doc. 2014-21329 Filed 9-5-14; 8:45 am]

BILLING CODE 6820-23-P